DEPARTMENT OF ENERGY

Federal Energy Regulatory Commission

[Docket No. CP20-69-000]

Notice of Request Under Blanket Authorization; Northern Natural Gas Company

Take notice that on February 28, 2020, Northern Natural Gas Company (Northern), 1111 South 103rd Street, Omaha, NE 68124, filed in the above referenced docket, a prior notice request pursuant to sections 157.205 and 157.213(b) of the Commission's regulations under the Natural Gas Act (NGA) and Northern's blanket certificate issued in Docket No. CP82-401-000, for authorization to install three new injection and withdrawal wells and related surface facilities within Northern's existing Redfield Storage Field, located in Dallas County, Iowa. Two of the three new injection and withdrawal wells will replace existing wells and the third well will be a new injection and withdrawal well. The project is referred to as the 2020 Redfield Well Project and will have no effect on the Redfield Storage Field's physical parameters, certificated storage capacity or on the storage service to any of Northern's existing customers, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions regarding this prior notice request should be directed to Michael T. Loeffler, Senior Director, Certificates and External Affairs, Northern Natural Gas Company, P.O. Box 3330, Omaha, NE 68103-0330, Phone: (402) 398-7103, Email: mike.loeffler@nngco.com.

Any person or the Commission's staff may, within 60 days after the issuance of the instant notice by the Commission, file pursuant to Rule 214 of the Commission's Procedural Rules (18 CFR 385.214) a motion to intervene or notice of intervention. Any person filing to intervene, or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

The Commission strongly encourages electronic filings of comments, protests, and interventions via the internet in lieu of paper. See 18 CFR 385.2001(a) (1) (iii) and the instructions on the Commission's website (http://www.ferc.gov) under the e-Filing link.

Dated: March 9, 2020.
Kimberly D. Bose,
Secretary.

[FR Doc. 2020-05155 Filed 3-12-20; 8:45 am]

BILLING CODE 6717-01-P